DEPARTMENT OF ENERGY

Federal Energy Regulatory Commission

Combined Notice of Filings #1

Take notice that the Commission received the following exempt wholesale generator filings:

Docket Numbers: EG24-15-000.

Applicants: Wild Springs Solar, LLC.

Description: Wild Springs Solar, LLC submits Notice of Self-Certification of Exempt Wholesale Generator Status.

Filed Date: 10/19/23.

Accession Number: 20231019-5161.

Comment Date: 5 p.m. ET 11/9/23.

Docket Numbers: EG24-16-000.

Applicants: Skysol, LLC.

Description: Skysol, LLC submits Notice of Self-Certification of Exempt Wholesale Generator Status.

Filed Date: 10/20/23.

Accession Number: 20231020-5059.

Comment Date: 5 p.m. ET 11/13/23.

Take notice that the Commission received the following Complaints and Compliance filings in EL Dockets:

Docket Numbers: EL24-5-000.

Applicants: Louisiana Public Service Commission, Arkansas Public Service Commission, Council of the City New Orleans.

Description: Complaint of Louisiana Public Service Commission, et al. v. System Energy Resources, Inc., et al.

Filed Date: 10/18/23.

Accession Number: 20231018-5176.

Comment Date: 5 p.m. ET 11/7/23.

Take notice that the Commission received the following electric rate filings:

Docket Numbers: ER10-2214-008.

Applicants: Zion Energy LLC.

Description: Compliance filing: Informational Filing Regarding Upstream Transfer of Ownership to be effective N/A.

Filed Date: 10/19/23.

Accession Number: 20231019-5159.

Comment Date: 5 p.m. ET 11/9/23.

Docket Numbers: ER12-954-008.

Applicants: Calpine Mid Merit, LLC.

Description: Compliance filing: Informational Filing Regarding Upstream Transfer of Ownership to be effective N/A.

Filed Date: 10/19/23.

Accession Number: 20231019-5138.

Comment Date: 5 p.m. ET 11/9/23.

Docket Numbers: ER14-873-007.

Applicants: Calpine New Jersey Generation, LLC.

Description: Compliance filing: Informational Filing Regarding Upstream Transfer of Ownership to be effective N/A.

Filed Date: 10/19/23.

Accession Number: 20231019-5150.

Comment Date: 5 p.m. ET 11/9/23.

Docket Numbers: ER15-2495-006.

Applicants: Calpine New Jersey Generation, LLC.

Description: Compliance filing: Informational Filing Regarding Upstream Transfer of Ownership to be effective N/A.

Filed Date: 10/19/23.

Accession Number: 20231019-5151.

Comment Date: 5 p.m. ET 11/9/23.

Docket Numbers: ER19-2916-004.

Applicants: Calpine Mid-Merit II, LLC.

Description: Compliance filing: Informational Filing Regarding Upstream Transfer of Ownership to be effective N/A.

Filed Date: 10/19/23.

Accession Number: 20231019-5148.

Comment Date: 5 p.m. ET 11/9/23.

Docket Numbers: ER24-155-000.

Applicants: California Independent System Operator Corporation.

Description: Compliance filing: 2023-10-19 Compliance Filing—FERC Order No. 895 to be effective 8/21/2023.

Filed Date: 10/19/23.

Accession Number: 20231019-5145.

Comment Date: 5 p.m. ET 11/9/23.

Docket Numbers: ER24-156-000.

Applicants: PJM Interconnection, L.L.C.

Description: Compliance filing: Compliance Filing to Order No. 895 on Credit-Related Info Sharing in Markets to be effective 10/21/2023.

Filed Date: 10/19/23.

Accession Number: 20231019-5155.

Comment Date: 5 p.m. ET 11/9/23.

Docket Numbers: ER24-157-000.

Applicants: Southwest Power Pool, Inc.

Description: § 205(d) Rate Filing: 4154 Pixley Solar Energy & ITCGP Facilities Service Agr to be effective 12/19/2023.

Filed Date: 10/20/23.

Accession Number: 20231020-5004.

Comment Date: 5 p.m. ET 11/13/23.

Docket Numbers: ER24-158-000.

Applicants: PJM Interconnection, L.L.C.

Description: § 205(d) Rate Filing: Original NSA, Service Agreement No. 7109; Queue No. AF1-019 to be effective 12/20/2023.

Filed Date: 10/20/23.

Accession Number: 20231020-5006.

Comment Date: 5 p.m. ET 11/13/23.

Docket Numbers: ER24-159-000.

Applicants: PJM Interconnection, L.L.C.

Description: § 205(d) Rate Filing: Amend ISA/CSA, SA Nos. 5245 & 5250; Queue No. AB2-067/AC1-044/AD2-189 (amend) to be effective 12/20/2023.

Filed Date: 10/20/23.

Accession Number: 20231020-5038.

Comment Date: 5 p.m. ET 11/13/23.

Docket Numbers: ER24-160-000.

Applicants: PacifiCorp.

Description: Tariff Amendment: Termination of Black Hills NITSA Rev 3 (SA 347) to be effective 12/31/2023.

Filed Date: 10/20/23.

Accession Number: 20231020-5043.

Comment Date: 5 p.m. ET 11/13/23.

Docket Numbers: ER24-161-000.

Applicants: Tri-State Generation and Transmission Association, Inc.

Description: § 205(d) Rate Filing: Initial Filing of Service Agreement FERC No. 915 to be effective 9/20/2023.

Filed Date: 10/20/23.

Accession Number: 20231020-5065.

Comment Date: 5 p.m. ET 11/13/23.

Docket Numbers: ER24-162-000.

Applicants: American Transmission Systems, Incorporated, PJM Interconnection, L.L.C.

Description: § 205(d) Rate Filing: American Transmission Systems, Incorporated submits tariff filing per 35.13(a)(2)(iii: ATSI submits Revised Interconnection Agreement, Service Agreement No. 3992 to be effective 12/20/2023.

Filed Date: 10/20/23.

Accession Number: 20231020-5066.

Comment Date: 5 p.m. ET 11/13/23.

Docket Numbers: ER24-163-000.

Applicants: Exelon Business Services Company, LLC, PJM Interconnection, L.L.C.

Description: § 205(d) Rate Filing: Exelon Business Services Company, LLC submits tariff filing per 35.13(a)(2)(iii: BGE, PECO & Pepco Request for Order Authorizing Abandoned Plant Incentive to be effective 12/20/2023.

Filed Date: 10/20/23.

Accession Number: 20231020-5067.

Comment Date: 5 p.m. ET 11/13/23.

Docket Numbers: ER24-164-000.

Applicants: Tri-State Generation and Transmission Association, Inc.

Description: § 205(d) Rate Filing: Amendment to Service Agreement FERC No. 891 to be effective 9/21/2023.

Filed Date: 10/20/23.

Accession Number: 20231020-5070.

Comment Date: 5 p.m. ET 11/13/23.

Docket Numbers: ER24-165-000.

Applicants: Midcontinent Independent System Operator, Inc.

Description: Compliance filing: 2023-10-20_Order No. 895 Credit Information Sharing Compliance to be effective 10/21/2023.

Filed Date: 10/20/23.

Accession Number: 20231020-5073.

Comment Date: 5 p.m. ET 11/13/23.

Docket Numbers: ER24-166-000.

Applicants: Sun Streams Expansion, LLC.

Description: § 205(d) Rate Filing: Amendment to LGIA Co-Tenancy Agreement to be effective 10/21/2023.

Filed Date: 10/20/23.

Accession Number: 20231020-5074.

Comment Date: 5 p.m. ET 11/13/23.

Docket Numbers: ER24-167-000.

Applicants: Sun Pond, LLC.

Description: § 205(d) Rate Filing: Certificate of Concurrence for Amendment to LGIA Co-Tenancy Agreement to be effective 10/21/2023.

Filed Date: 10/20/23.

Accession Number: 20231020-5081.

Comment Date: 5 p.m. ET 11/13/23.

Docket Numbers: ER24-168-000.

Applicants: Pennsylvania Power Company, PJM Interconnection, L.L.C.

Description: § 205(d) Rate Filing: Pennsylvania Power Company submits tariff filing per 35.13(a)(2)(iii: Penn Power Amends 9 ECSAs (5390 5516 5569 5640 5703 6041 6334 6347 6618) to be effective 12/31/9998.

Filed Date: 10/20/23.

Accession Number: 20231020-5084.

Comment Date: 5 p.m. ET 11/13/23.

Docket Numbers: ER24-169-000.

Applicants: Niagara Mohawk Power Corporation, New York Independent System Operator, Inc.

Description: § 205(d) Rate Filing: Niagara Mohawk Power Corporation submits tariff filing per 35.13(a)(2)(iii: Niagara Mohawk 205: Amended ISA between NMPC & Cedar Rapids Transmission (SA336) to be effective 9/20/2023.

Filed Date: 10/20/23.

Accession Number: 20231020-5091.

Comment Date: 5 p.m. ET 11/13/23.

Docket Numbers: ER24-170-000.

Applicants: PJM Interconnection, L.L.C.

Description: Tariff Amendment: Notice of Cancellation of ISA, SA No. 5485; Queue No. AB1-107 Re: Withdrawal to be effective 12/20/2023.

Filed Date: 10/20/23.

Accession Number: 20231020-5102.

Comment Date: 5 p.m. ET 11/13/23.

Docket Numbers: ER24-171-000.

Applicants: Skysol, LLC.

Description: Baseline eTariff Filing: Skysol, LLC MBR Tariff to be effective 11/30/2023.

Filed Date: 10/20/23.

Accession Number: 20231020-5103.

Comment Date: 5 p.m. ET 11/13/23.

Docket Numbers: ER24-172-000.

Applicants: FirstEnergy Pennsylvania Electric Company.

Description: Baseline eTariff Filing: 2023.10.20—Baseline Market-Based Rate Tariff Filing to be effective 10/20/2023.

Filed Date: 10/20/23.

Accession Number: 20231020-5106.

Comment Date: 5 p.m. ET 11/13/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 20, 2023.
Kimberly D. Bose,
Secretary.

[FR Doc. 2023-23831 Filed 10-27-23; 8:45 am]

BILLING CODE 6717-01-P